ENVIRONMENTAL PROTECTION AGENCY

[FRL-8202-6]

EPA Science Advisory Board Staff Office; Clean Air Scientific Advisory Committee (CASAC); Notification of Public Advisory Committee Meeting of the CASAC Ozone Review Panel

AGENCY: Environmental Protection Agency (EPA).

ACTION: Notice.

SUMMARY: The Environmental Protection Agency (EPA) Science Advisory Board (SAB) Staff Office announces a public meeting of the Clean Air Scientific Advisory Committee's (CASAC) Ozone Review Panel (CASAC Panel) to conduct a peer review of the Review of the National Ambient Air Quality Standards for Ozone: Policy Assessment of Scientific and Technical Information (second draft Ozone Staff Paper, July 2006) and three related draft technical support documents: Ozone Health Risk Assessment for Selected Urban Areas: Draft Report (second draft Ozone Health Risk Assessment, July 2006); Ozone Population Exposure Analysis for Selected Urban Areas: Draft Report (second draft Ozone Exposure Assessment, July 2006); and Draft Ozone Environmental Assessment: Exposure, Risk and Benefits Assessment (draft Ozone Environmental Assessment, July 2006).

DATES: The meeting will be held from 8:30 a.m. (Eastern Time) on Thursday, August 24, 2006, through 3 p.m. (Eastern Time) on Friday, August 25, 2006.

Location: The meeting will take place at the Marriott at Research Triangle Park, 4700 Guardian Drive, Durham, NC 27703, Phone: (919) 941-6200.

FOR FURTHER INFORMATION CONTACT: Any member of the public who wishes to submit a written or brief oral statement (five minutes or less) or wants further information concerning this meeting must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The CASAC Ozone Review Panel complies with the provisions of FACA and all appropriate SAB Staff Office procedural policies.

Section 109(d)(1) of the CAA requires that the Agency periodically review and revise, as appropriate, the air quality criteria and the national ambient air quality standards (NAAQS) for the six “criteria” air pollutants, including ambient ozone. Pursuant to sections 108 and 109 of the Act, EPA is in the process of reviewing the ozone NAAQS, which the Agency most recently revised in July 1997. EPA's Office of Air Quality Planning and Standards (OAQPS), within the Office of Air and Radiation (OAR), has developed a second draft Ozone Staff Paper as part of its review of the ozone NAAQS. This second draft Ozone Staff Paper evaluates the policy implications of the key scientific and technical information contained in the Agency's final Air Quality Criteria for Ozone and Related Photochemical Oxidants, Volumes I, II, and III, (EPA/600/R-05/004aF-cF, February 2006), and identifies critical elements that EPA believes should be considered in its review of the ozone NAAQS. The Ozone Staff Paper is intended to “bridge the gap” between the scientific review contained in the Ozone Air Quality Criteria Document (AQCD) and the public health and welfare policy judgments required of the EPA Administrator in reviewing the ozone NAAQS. The Agency solicited early advice and recommendations from the CASAC Panel by means of a consultation on the Review of the National Ambient Air Quality Standards for Ozone: Policy Assessment of Scientific and Technical Information (first draft Ozone Staff Paper, November 2005) and two related draft technical support documents, Ozone Health Risk Assessment for Selected Urban Areas: Draft Report (first draft Ozone Risk Assessment, November 2005) and Ozone Population Exposure Analysis for Selected Urban Areas: Draft Report (first draft Ozone Exposure Assessment, October 2005). This consultation took place in a public meeting on December 8, 2005 in Durham, NC. The letter to the Administrator documenting that this consultative meeting occurred (EPA-CASAC-CON-06-003, dated February 16, 2006, is posted on the SAB Web site at: http://www.epa.gov/sab/pdf/casac_con_06_003.pdf. This meeting is a continuation of the CASAC Ozone Review Panel's advisory activities in this current review cycle for the ozone NAAQS.

Technical Contact: Any questions concerning the second draft Ozone Staff Paper and the second draft Ozone Health Risk Assessment, the second draft Ozone Exposure Assessment, and the draft Ozone Environmental Assessment should be directed to Dr. Dave McKee, OAQPS, at phone: (919) 541-5288, or e-mail: mckee.dave@epa.gov.

Availability of Meeting Materials: The second draft Ozone Staff Paper and the three related technical support documents can be accessed via the Agency's Technology Transfer Network (TTN) Web site at: http://www.epa.gov/ttn/naaqs/standards/ozone/s_o3_index.html in the “Documents for Current Review” section under “Staff Papers” and “Technical Documents,” respectively. In addition, a copy of the draft agenda and other materials for this CASAC meeting will be posted on the SAB Web site at: http://www.epa.gov/sab/panels/casacorpanel.html prior to the meeting.

Procedures for Providing Public Input: Interested members of the public may submit relevant written or oral information for the CASAC Ozone Review Panel to consider during the advisory process. Oral Statements: In general, individuals or groups requesting an oral presentation at a public meeting will be limited to five minutes per speaker, with no more than a total of one hour for all speakers. Interested parties should contact Mr. Butterfield, DFO, in writing (preferably via e-mail), by August 17, 2006, at the contact information noted above, to be placed on the public speaker list for this meeting. Written Statements: Written statements should be received in the SAB Staff Office by August 17, 2006, so that the information may be made available to the CASAC Panel for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: July 17, 2006.
Anthony F. Maciorowski,
Associate Director for Science, EPA Science Advisory Board Staff Office.

[FR Doc. E6-11709 Filed 7-21-06; 8:45 am]

BILLING CODE 6560-50-P